DEPARTMENT OF ENERGY

[Docket No. PP-89-1]

Notice of Public Hearings for the Proposed Bangor Hydro-Electric Company (BHE) Northeast Reliability Interconnect

AGENCY: Department of Energy.

ACTION: Notice of public hearings.

SUMMARY: The Department of Energy (DOE) announces two public hearings on the “Draft Environmental Impact Statement for the Bangor Hydro-Electric Company (BHE) Northeast Reliability Interconnect” (DOE/EIS-0372). The Draft EIS was prepared pursuant to the National Environmental Policy Act of 1969 (NEPA), as amended, 42 U.S.C. 4321 et seq., the Council on Environmental Quality NEPA regulations, 40 CFR parts 1500-1508, and the DOE NEPA regulations, 10 CFR part 1021. The U.S. Fish and Wildlife Service (USFWS) and the National Marine Fisheries Service (NOAA Fisheries) are cooperating agencies in the preparation of this Draft EIS.

The proposed DOE action in the Draft EIS is to amend BHE's existing Presidential permit to allow construction along the Modified Consolidated Corridors Route of a single-circuit, 345,000-volt, electric transmission line that would cross the U.S. international border in the vicinity of Baileyville, Maine. DOE has prepared this Draft EIS to evaluate the potential environmental impacts in the United States of the proposed action and the range of reasonable alternatives, including the No Action alternative.

DATES: DOE invites interested Members of Congress, state and local governments, other Federal agencies, American Indian tribal governments, organizations, and members of the public to provide comments on the Draft EIS. The public comment period began on August 26, 2005, with the publication of the Notice of Availability of the Draft EIS in the Federal Register by the Environmental Protection Agency and will continue until October 11, 2005. Written and oral comments will be given equal weight, and DOE will consider all comments received or postmarked by that date in preparing the Final EIS. Comments received or postmarked after that date will be considered to the extent practicable.

Dates for the public hearings are:

1. September 28, 2005, 7 p.m. to 9 p.m., Baileyville, Maine.

2. September 29, 2005, 7 p.m. to 9 p.m., Brewer, Maine.

Requests to speak at a specific public hearing should be received by Dr. Jerry Pell as indicated in the ADDRESSES section below on or before September 21, 2005. Requests to speak may also be made at the time of registration for the hearing(s). However, persons who have submitted advance requests to speak will be given priority if time should be limited during the meeting.

ADDRESSES: Requests to speak at the public hearings should be addressed to: Dr. Jerry Pell, Office of Electricity Delivery and Energy Reliability (OE-20), U.S. Department of Energy, Washington, DC 20585, or transmitted by phone: 202-586-3362, facsimile: 202-318-7761, or electronic mail at Jerry.Pell@hq.doe.gov. Please be aware that anthrax screening delays conventional mail delivery to DOE.

The locations of the public hearings are:

1. Woodland Elementary School, 23 Fourth Avenue, Baileyville, Maine.

2. Jeff's Catering Banquet & Convention Center, East West Industrial Park, 5 Coffin Avenue, Brewer, Maine.

Copies of the Draft EIS are available in paper format, accompanied by a CD-ROM containing the entire Draft EIS, or as a CD-ROM only. Requests for additional copies in either format should be addressed to Dr. Pell at any of the addresses above. Additionally, the Draft EIS is available on the project Internet Web site at http://web.ead.anl.gov/interconnecteis, and also on the DOE NEPA Web site at http://www.eh.doe.gov/nepa/docs/deis/deis.html.

Written comments on the Draft EIS may be addressed to Dr. Jerry Pell as indicated in the ADDRESSES section of this notice or submitted on the project Web site at http://web.ead.anl.gov/interconnecteis.

FOR FURTHER INFORMATION CONTACT: For information on the proposed project or to receive a copy of the Draft EIS, contact Dr. Pell as indicated in the ADDRESSES section of this notice.

For general information on the DOE NEPA process, contact: Carol M. Borgstrom, Director, Office of NEPA Policy and Compliance (EH-42), U.S. Department of Energy, 1000 Independence Avenue, SW., Washington, DC 20585, Phone: 202-586-4600 or leave a message at 800-472-2756; Facsimile: 202-586-7031.

SUPPLEMENTARY INFORMATION: Executive Order (E.O.) 10485, as amended by E.O. 12038, requires that a Presidential permit be issued by DOE before electric transmission facilities may be constructed, maintained, operated, or connected at the U.S. international border. The E.O. provides that a Presidential permit may be issued after a finding that the proposed project is consistent with the public interest. In determining consistency with the public interest, DOE considers the environmental impacts of the proposed project pursuant to NEPA, the project's impact on electric reliability by ascertaining whether the proposed project would adversely affect the operation of the U.S. electric power supply system under normal and contingency conditions, and any other factors that DOE may also consider relevant to the public interest. The regulations implementing the E.O. have been codified at 10 CFR 205.320-205.329. Issuance of the permit indicates that there is no Federal objection to the project, but does not mandate that the project be completed.

On January 22, 1996, DOE issued Presidential Permit PP-89 which authorized BHE to construct a single-circuit, 345,000-volt (345-kV) alternating current transmission line that would originate at BHE's Orrington Substation, extend eastward approximately 85 miles (137-km), and cross the U.S.-Canada border near Baileyville, Maine. Before granting the Presidential permit, DOE prepared an EIS which analyzed the environmental impacts of various alternative actions and routes. The preferred alternative in the EIS and in the Record of Decision was to grant a Presidential permit for construction of the transmission line along the Stud Mill Road route. However, the project was never constructed and on September 30, 2003, BHE applied to DOE to amend Presidential Permit PP-89 by allowing construction of the proposed transmission line along a route other than the Stud Mill Road route.

Alternatives Considered

The proposed DOE action in the Draft EIS is to amend BHE's existing Presidential permit to allow construction along the Modified Consolidated Corridors Route. DOE has prepared this Draft EIS to evaluate the potential environmental impacts in the United States of the proposed action and the range of reasonable alternatives, including the No Action alternative. Under the No Action alternative, only the previously permitted route (the Stud Mill Road route) could be utilized by BHE for construction of the transmission line. In addition to the Modified Consolidated Corridors Route and the Previously Permitted Route, two other alternative routes are analyzed in the Draft EIS: the Consolidated Corridors Route, and the MEPCO South Route. DOE also analyzed a rescission alternative under which the existing permit would be rescinded and no international transmission line could be constructed. As indicated in the Draft EIS, DOE has designated the Modified Consolidated Corridors Route as its preferred alternative.

Availability of the Draft EIS

DOE has distributed copies of the Draft EIS to appropriate members of Congress, state and local government officials in Maine, American Indian tribal governments, and other Federal agencies, groups, and interested parties. Copies of the document may be obtained by contacting DOE as provided in the ADDRESSES section of this notice. Copies of the Draft EIS are also available for inspection at the locations identified below:

1. Bangor Public Library, 145 Harlow St., Bangor, ME 04401.

2. Brewer Public Library, 24 Union St., Brewer, ME 04412.

3. Calais Free Library, 9 Union St., Calais, ME 04619.

4. Orrington Public Library, 15 School St., Orrington, ME 04474.

5. Princeton Public Library, Main Street, Princeton, ME 04668.

6. Baileyville Public Library, 169 Main Street, Baileyville, ME 04694.

Issued in Washington, DC, on September 6, 2005.
Anthony J. Como,
Director, Permitting and Siting, Office of Electricity Delivery and Energy Reliability.

[FR Doc. 05-18023 Filed 9-9-05; 8:45 am]

BILLING CODE 6450-01-P